DEPARTMENT OF THE INTERIOR

National Park Service

Notice of Inventory Completion: Thomas Burke Memorial Washington State Museum, University of Washington, Seattle, WA and Central Washington University, Department of Anthropology, Ellensburg, WA

AGENCY: National Park Service, Interior.

ACTION: Notice.

Notice is here given in accordance with the Native American Graves Protection and Repatriation Act (NAGPRA), 25 U.S.C. 3003, of the completion of an inventory of human remains and associated funerary objects in the control of the Thomas Burke Memorial Washington State Museum (Burke Museum), University of Washington, Seattle, WA and Central Washington University, Department of Anthropology, Ellensburg, WA. The human remains and associated funerary objects were removed from Klickitat County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Burke Museum and Central Washington University professional staff in consultation with representatives of the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group.

Between 1955 and 1957, human remains representing a minimum of 91 individuals were removed from the Congdon site (45-KL-41) in Klickitat County, WA, by a University of Washington Field Party led by Mr. Robert B. Butler. The human remains were transferred to the Burke Museum and formally accessioned in 1966 (Burke Accn.# 1966-100). In 1974, the Burke Museum legally transferred portions of the human remains to Central Washington University. No known individuals were identified. The 1,049 associated funerary objects are 39 abraders, 4 anvils, 5 atlatl weights, 1 bone bi-point, 3 bone tools, 2 bowls, 44 chipped stone tools, 204 stone choppers, 2 fragments of metal ore (copper and iron), 1 stone core, 201 stone discoid, 1 stone drill, 2 stone flakes, 6 stone gravers, 24 grooved mauls, 82 groundstone tools, 20 hammerstones, 87 stone mauls, 60 mortars, 58 net weights, 1 stone pendant, 38 pestles, 21 piledrivers, 26 stone points, 47 scrapers, 2 spherical stones, and 68 utilized flakes.

The Congdon site was first discovered in the 1930s. In 1955, amateur archeologists continued to disturb the site and began locating human remains. Mr. Butler also began working at this site at this time. The site was simultaneously further disturbed by bulldozing in preparation for the relocation of a railroad. The site was considered a mass burial with complicated stratigraphy, and human remains commingled and scattered throughout making identification of individual burials impossible. Mr. Butler's excavations focused on salvaging human remains; however, no provenience was recorded for the human remains and the excavations have limited field documentation.

Early and late published ethnographic documentation indicates that this was the aboriginal territory of the Western Columbia River Sahaptins, Wasco, Wishram, Yakima, Walla Walla, Umatilla, Tenino, and Skin (Daugherty 1973, Hale 1841, Hunn and French 1998, Stern 1998, French and French 1998, Mooney 1896, Murdock 1938, Ray 1936 and 1974, Spier 1936). The descendants of the Western Columbia River Sahaptins, Wasco, Wishram, Yakima, Walla Walla, Umatilla, Tenino, and Skin are members of the Confederated Tribes and Bands of the Yakama Nation, Washington; Confederated Tribes of the Umatilla Reservation, Oregon; and Confederated Tribes of the Warm Springs Reservation of Oregon.

Information provided by representatives of the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group, during consultation indicates that the aboriginal ancestors occupying the site area were highly mobile and traveled widely across the landscape for gathering resources as well as trade, and are all part of the more broadly defined Plateau cultural community. The descendants of these Plateau communities are members of the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group.

Officials of the Burke Museum and Central Washington University have determined that, pursuant to 25 U.S.C. 3001 (9-10), the human remains described above represent the physical remains of 91 individuals of Native American ancestry. Officials of the Burke Museum and Central Washington University also have determined that, pursuant to 25 U.S.C. 3001 (3)(A), the 1,049 objects described above are reasonably believed to have been placed with or near individual human remains at the time of death or later as part of the death rite or ceremony. Lastly, officials of the Burke Museum and Central Washington University have determined that, pursuant to 25 U.S.C. 3001 (2), there is a relationship of shared group identity that can be reasonably traced between the Native American human remains and associated funerary objects and the Confederated Tribes and Bands of the Yakama Nation, Washington; Confederated Tribes of the Colville Reservation, Washington; Confederated Tribes of the Umatilla Reservation, Oregon; Confederated Tribes of the Warm Springs Reservation of Oregon; and Nez Perce Tribe of Idaho. Furthermore, officials of the Burke Museum and Central Washington University have determined that there is a cultural relationship between the human remains and associated funerary objects and the Wanapum Band, a non-federally recognized Indian group.

Representatives of any other Indian tribe that believes itself to be culturally affiliated with the human remains and associated funerary objects should contact Dr. Peter Lape, Burke Museum, University of Washington, Box 353010, Seattle, WA 98195-3010, telephone (206) 685-2282 or Lourdes Henebry- DeLeon, NAGPRA Program Director, Central Washington University, Department of Anthropology, Mailstop 7544, Ellensburg, WA 98926, telephone (509) 963-2671, before June 25, 2007. Repatriation of the human remains and associated funerary objects to the Confederated Tribes of the Colville Reservation, Washington; Confederated Tribes of the Umatilla Reservation, Oregon; Confederated Tribes of the Warm Springs Reservation of Oregon; Nez Perce Tribe of Idaho; and Confederated Tribes and Bands of the Yakama Nation, Washington, for themselves and on behalf of the Wanapum Band, a non-federally recognized Indian group, may proceed after that date if no additional claimants come forward. The Confederated Tribes of the Colville Reservation, Washington; Confederated Tribes of the Umatilla Reservation, Oregon; Confederated Tribes of the Warm Springs Reservation of Oregon; Nez Perce Tribe of Idaho; and Confederated Tribes and Bands of the Yakama Nation, Washington; and Wanapum Band, non-federally recognized Indian group, are claiming jointly all cultural items from the Columbia River area in eastern Washington and Oregon.

The Burke Museum is responsible for notifying the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group that this notice has been published.

Dated: May 14, 2007
Sherry Hutt,
Manager, National NAGPRA Program.

[FR Doc. E7-9971 Filed 5-23-07; 8:45 am]

BILLING CODE 4312-50-S